DEPARTMENT OF HEALTH AND HUMAN SERVICES

Office of the Secretary

[Document Identifier HHS-OS-0990-New-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before June 2, 2014.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-Office of the National Coordinator for Health IT: Office of Consumer eHealth OS-0990-New for reference.

Information Collection Request Title: The Blue Button Connector.

Abstract: The Blue Button Connector is a Web site that helps consumers and patients find their own health information online from the entities that collect their information (ie hospitals, physicians, labs, immunization registries, state health information exchanges etc). The Connector also helps developers build tools that respond to the readiness of the market. It also will provide links to apps and tools for consumers that use structured electronic health data.

Need and Proposed Use of the Information: The site's value will only increase if more healthcare organizations have the ability to list themselves on the Connector as an organization that is providing health data back to patients, a patient's designee or caregivers. For this reason, it is important to enable the capability for organizations to sign up to be listed on the Connector and update their profile pages on an ongoing basis as they improve their offerings and features to patients. We would like for this capability to exist for no more than 3 years.

Likely Respondents: Any entity providing health services to patients and or collecting health information on consumers which includes but is not limited to: hospitals, physicians, labs, immunization registries, and state health information exchanges. Respondents will also include application developers with the capability to consume health information in a structured format from a patient.

Burden Statement: Organizations that would like to be listed on the Connector will fill out a 3-5 minute survey of nine questions. The survey will ask health data holding organizations to provide basic information about their access capabilities, reach, contact information and links to where patients could go to get their health data. The total annual burden hours estimated for this ICR are summarized in the table below.

Total Estimated Annualized Burden—Hours
Type of respondent | Number of respondents | Number of responses per respondent | Average burden per response (in hours) | Total burden hours
Providers | 2,000 | 1 | 3/60 | 100
Hospitals | 500 | 1 | 3/60 | 25
Labs | 10 | 1 | 3/60 | .5
State Immunization Registries | 7 | 1 | 3/60 | .35
Pharmacies | 10 | 1 | 3/60 | .5
State HIEs | 15 | 1 | 3/60 | .75
Total |  |  |  | 127

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Deputy, Information Collection Clearance Officer.

[FR Doc. 2014-07350 Filed 4-1-14; 8:45 am]

BILLING CODE 4150-45-P